DEPARTMENT OF HOUSING AND URBAN DEVELOPMENT

[Docket No. FR-4820-N-17]

Notice of Proposed Information Collection: Comment Request; Lender Qualifications for Multifamily Accelerated Processing (MAP)

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: June 20, 2003.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410 or Wayne_Eddins@hud.gov.

FOR FURTHER INFORMATION CONTACT: Michael L. McCullough, Director, Office of Multifamily Development, Department of Housing and Urban Development, 451 7th Street SW., Washington, DC 20410, telephone (202) 708-1142 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond: including the use of appropriate automated collection techniques or other forms of information technology, e.g., permitting electronic submission of responses.

This Notice also lists the following information:

Title of Proposal: Lender Qualifications for Multifamily Accelerated Processing (MAP) and Changes to the MAP Program.

OMB Control Number, if applicable: 2502-0541.

Description of the need for the information and proposed use: Multifamily Accelerated Processing (MAP) is a procedure that permits approved lenders to prepare, process, and submit loan applications for Federal Housing Administration (FHA) multifamily mortgage insurance. In May 2000, MAP replaced existing “fast-track“ procedures with a single national process for all multifamily offices of the U.S. Department of Housing and Urban Development (HUD). Changes are being implemented to improve monitoring and maintaining the integrity of the MAP procedures in part as a result of a General Accounting Office (GAO) audit of MAP's implementation. MAP underwriters and construction loan administrators will be tracked as they move from lender to lender. This will be accomplished through a registry of approved MAP underwriters and construction loan administrators. HUD Headquarters, Lender Qualifications and Monitoring Division (LQMD) will make the initial approval of the MAP Lender's underwriters and construction loan administrators. This will insure a uniform review standard as opposed to the individual field offices doing the initial approval. MAP Lenders will be required to notify HUD Headquarters (LQMD) immediately when there is any change in the MAP underwriting staff, construction loan administrators, and persons authorized to bind the lender on MAP loan applications. MAP Lenders will be required to annually provide a certification listing the names of the lender's approved MAP underwriters, construction loan administrators and persons authorized to bind the lender on MAP loan applications. All MAP Lenders must submit either a pre-application package or Firm Commitment application within 6 months of the latter of the date of the Mortgagee Letter (Changes to the MAP Program) or the date of their approval as a MAP Lender and every 18 months thereafter. Failure to do so will be a basis for removal as an approved MAP Lender. Lenders losing their MAP designation will still be able to use traditional application processing. This requirement is being imposed to keep lenders active and prevent a loss of MAP underwriting skills. MAP Lenders will be required to provide HUD Headquarters (LQMD) with either an electronic mailbox or an individual's e-mail address. Maintaining multiple e-mail addresses for an individual lender has become an unmanageable task. HUD will use the electronic address to continue to notify MAP Lenders of program changes and other items of interest.

Agency form numbers, if applicable: None.

Estimation of the total numbers of hours needed to prepare the information collection including number of respondents, frequency of response, and hours of response: The number of respondents is 25 for new MAP Lender approval applications and 130 for the Mortgagee Letter information request, the frequency of response is 1, the hours per response is 10 hours for the MAP Lender application, 1 hour for the Mortgagee Letter information request, and the total estimated annual burden hours is 380.

Status of the proposed information collection: Revision of a currently approved collection.

Authority: The Paperwork Reduction Act of 1995, 44 U.S.C., Chapter 35, as amended.

Dated: April 11, 2003.
John C. Weicher,
Assistant Secretary for Housing-Federal Housing Commissioner.

[FR Doc. 03-9802 Filed 4-18-03; 8:45 am]

BILLING CODE 4210-27—M